DEPARTMENT OF ENERGY

Federal Energy Regulatory Commission

[Docket No. CP02-37-000]

Williston Basin Interstate Pipeline Company; Notice of Intent To Prepare an Environmental Impact Statement for the Proposed Grasslands Project, Request for Comments on Environmental Issues, and Notice of Public Scoping Meetings and Site Visit

February 5, 2002.

The staff of the Federal Energy Regulatory Commission (FERC or Commission) will prepare an environmental impact statement (EIS) that will discuss the environmental impacts of the Grasslands Project involving construction, operation, and abandonment of facilities by Williston Basin Interstate Pipeline Company (WBI).¹ WBI proposes to construct new pipeline and appurtenant facilities in Wyoming, Montana, and North Dakota to transport 120,000 thousand cubic feet per day (Mcf/d) of natural gas from the Powder River Basin to its storage facilities in Montana and to the Northern Border Pipeline Company's system in North Dakota. This EIS will be used by the Commission in its decision-making process to determine whether the project is in the public convenience and necessity.

¹ WBI's application was filed with the Commission under Sections 7(b) and (c) of the Natural Gas Act.

The FERC will be the lead Federal agency for the preparation of the EIS. The Miles City Field Office of the U.S. Department of the Interior's Bureau of Land Management (BLM), the Medora Ranger District of the U.S. Department of Agriculture's Forest Service (FS), and the Montana Department of Environmental Quality (MTDEQ) will be cooperating with us in the preparation of the EIS. Meetings with the MTDEQ, BLM, and FS were held January 14, 15, and 16, 2002, respectively, to discuss procedural and potential environmental issues for this project.² Other Federal, state, and tribal agencies with jurisdiction and/or special expertise with respect to environmental issues may also request cooperating agency status.

² Summaries of these meetings have been placed in the public file in this docket.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice WBI provided to landowners. This fact sheet addresses a number of typically asked questions, including the use of eminent domain and how to participate in the Commission's proceedings. It is available for viewing on the FERC Internet website (www.ferc.gov).

This notice is being sent to landowners of property crossed by and adjacent to WBI's proposed route; tenants and lessees on affected public land; Federal, state, and local agencies; elected officials; Indian tribes that might attach religious and cultural significance to historic properties in the area of potential effects; environmental and public interest groups; and local libraries and newspapers. State and local government representatives are encouraged to notify their constituents of this proposed action and encourage them to comment on their areas of concern.

Summary of the Proposed Project

The proposed facilities consist of about 248 miles of pipeline and 12,540 horsepower (hp) of compression. WBI also is seeking to abandon certain other pipeline facilities in Wyoming and Montana. Specifically, WBI seeks authority to:

• Construct approximately 219 miles of new 16-inch-diameter pipeline from near Belle Creek, Montana, to the proposed Manning Compressor Station in Dunn County, North Dakota;

• Construct approximately 28 miles of 16-inch-diameter pipeline loop ³ adjacent to its existing Bitter Creek supply lateral pipeline in Wyoming;

³ A loop is a segment of pipeline that is usually installed adgacent to an existing pipeline and connected to it at both ends. The loop allows more gas to be moved through the system.

• Increase the maximum allowable operating pressure operate on approximately 40 miles of its existing 8-inch-diameter Recluse-Belle Creek supply lateral pipeline in Wyoming and Montana from 1,203 pounds per square inch gauge (psig), to 1,440 psig and abandon in place segments of existing pipe at nine road crossings and replace them with heavier walled pipe;

• Construct 4,180 hp of gas fired compression (comprised of two 2,090 hp compressors) at each of three new compressor stations located in Campbell County, Wyoming (East Fork Compressor Station); Fallon County, Montana (Cabin Creek South Compressor Station); and Dunn County, North Dakota (Manning Compressor Station);

• Construct 0.9 mile of 12-inch-diameter pipeline from the proposed Cabin Creek South Compressor Station to the existing Cabin Creek Compressor Station in Fallon County, Montana;

• Construct 1.0 mile of 16-inch-diameter pipeline from the proposed Manning Compressor Station to interconnect with Northern Border's Compressor Station 5 in Dunn County, North Dakota; and

• Construct various additional facilities, including 14 mainline valves, 4 cathodic protection units, 10 pig launchers/receivers, 7 metering stations, and 5 regulators.

In addition to the proposed facilities, WBI indicates that it may build an amine treatment facility to remove carbon dioxide from incoming gas supply before it enters WBI's system. If needed, this facility would likely be built within the 10-acre site of the proposed East Fork Compressor Station.

The general location of the project facilities is shown in appendix 1.⁴

⁴ The apprendices referenced in this notice are not being printed in the Federal Register. Copies are available on the Commission's website at the “RIMS” link or from the Commission's Public Reference and Files Maintenance Branch, 888 First Street, N.E., Washington, DC 20426, or call (202) 208-1371. For instructions on connecting to RIMS refer to the last page of this notice. Copies of the appendices were sent to all those receiving this notice in the mail.

Land Requirements for Construction

Construction of WBI's proposed pipeline facilities would require about 3,065.2 acres of land including the construction right-of-way, extra workspaces, and contractor/pipe yards, and access roads. WBI proposes to use a 100-foot-wide construction right-of-way. Following construction and restoration of the right-of-way and temporary work spaces, WBI would retain a 50-foot-wide permanent pipeline right-of-way. Total land requirements for the permanent right-of-way and one permanent access road would be about 1,517.7 acres, some of which would overlap existing rights-of-way.

WBI proposes to acquire 10 acres for each of the three proposed compressor stations. At each compressor station, the entire 10 acre parcel could be disturbed during construction and would be fenced following construction.

The EIS Process

The National Environmental Policy Act (NEPA) requires the Commission to take into account the environmental impacts that could result from an action whenever it considers the issuance of a Certificate of Public Convenience and Necessity. NEPA also requires us ⁵ to discover and address concerns the public may have about proposals. We call this “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

⁵ “We”, “us” and “our” refer to the environmental staff of the Office of Energy Projects (OEP).

Our independent analysis of the impacts that could occur as a result of the construction and operation of the proposed project will be in the Draft EIS. We will also evaluate possible alternatives to the proposed project or portions or the project, and make recommendations on how to lessen or avoid impacts on the various resources. The Draft EIS will be mailed to Federal, state, and local agencies, public interest groups, affected landowners and other interested individuals, Indian tribes, newspapers, libraries, and the Commission's official service list for this proceeding. A 45-day comment period will be allotted for review of the Draft EIS. We will consider all comments on the Draft EIS and revise the document, as necessary, before issuing a Final EIS. The Final EIS will include our response to each comment received on the Draft EIS and will be used by the Commission in its decision-making process to determine whether to approve the project.

To ensure your comments are considered, please carefully follow the instructions in the public participation section beginning on page 6.

Currently Identified Environmental Issues

We have already identified several issues that we think deserve attention based on a preliminary review of the environmental information provided by WBI and discussions with the cooperating agencies. This preliminary list of issues may be changed based on your comments and our analysis.

• Geology

—Impact on mineral resources

—Paleontological concerns

• Cultural Resources

—Impact on the proposed Custer-Sully Historic Corridor.

• Soils and Vegetation

—Construction on steep slopes

—Noxious weeds

—Seed mixes for restoration

—Loss of riparian vegetation

• Water Resources and Wetlands

—Use of directional drilling

—Ensuring pipe is placed below scour depth

• Wildlife and Fisheries

—Impact on bighorn sheep habitat

—Impact on raptor nesting and roosting areas

—Impact on sage grouse habitat

• Endangered and Threatened Species

—Impact on Federally-listed species

—Impact on FS, BLM, and state sensitive species

• Socioeconomic Impacts

• Cumulative Impacts

—Discussion of regional coal bed methane development

• Public Safety

• Air Quality and Noise

—Visibility degradation

—Compressor station emissions

—Noise from compressor stations

• Alternative Routes and Site Locations

—Co-location with other pipelines may not be feasible in certain areas across Little Missouri National Grasslands

—Abandonment method for road crossings (in-place vs. removal)

—Alternate site may be needed for the East Fork Compressor Station due to access issues

• Land Use

—Use of access roads on public land

—Impact on planned residential or commercial development

—Ensuring access across the right-of-way for cattle during construction

Public Participation and Scoping Meetings

You can make a difference by providing us with your specific comments or concerns about the project. By becoming a commentor, your concerns will be addressed in the EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., N.E., Room 1A, Washington, DC 20426.

• Label one copy of the comments for the attention of OEP—Gas 1, PJ-11.1.

• Reference Docket No. CP02-37-000.

• Mail your comments so that they will be received in Washington, DC on or before March 7, 2002 .

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create an account which can be created by clicking on “Login to File” and then “New User Account.”

All commentors will be retained on our mailing list. If you do not want to send comments at this time but still want to stay informed and receive copies of the Draft and Final EISs, you must return the attached Information Request (appendix 3). If you do not send comments or return the Information Request, you will be taken off the mailing list.

In addition to or in lieu of sending written comments, we invite you to attend the public scoping meetings the FERC will conduct in the project area. The locations and times for these meetings are listed below.

Schedule of Public Scoping Meetings for the Grasslands Project Environmental Impact Statement

February 19, 2000, 7:00 PM, Best Western—Tower West Lodge,109 N. U.S. Highway 14/16, Gillette, Wyoming, (307) 686-2210 or 1-800-762-7375.

February 20, 2000, 7:00 PM, Fallon County Fairgrounds, Exhibit Hall, Baker, Montana, (406) 778-2451.

February 21, 2000, 7:00 PM, Travelodge Hotel, 532 15th St. W., Dickinson, North Dakota, (701) 483-5600 or 1-800-422-0949.

The public meetings are designed to provide you with more detailed information and another opportunity to offer your comments on the proposed project. WBI representatives will be present at the scoping meetings to describe their proposal. Interested groups and individuals are encouraged to attend the meetings and to present comments on the environmental issues they believe should be addressed in the Draft EIS. A transcript of each meeting will be made so that your comments will be accurately recorded.

Site Visit

On the dates of the meetings, we will also be conducting limited site visits to the project area. Anyone interested in participating in the site visit may contact the Commission's Office of External Affairs identified at the end of this notice for more details and must provide their own transportation.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). ⁶ Only intervenors have the right to seek rehearing of the Commission's decision.

⁶ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 (direct line) or you can call the FERC operator at 1-800-847-8885 and ask for External Affairs. Information is also available on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Magalie R. Salas,
Secretary.

[FR Doc. 02-3203 Filed 2-8-02; 8:45 am]

BILLING CODE 6717-01-P